DEPARTMENT OF THE INTERIOR

Bureau of Ocean Energy Management

[MMAA104000]

Notice on Outer Continental Shelf Oil and Gas Lease Sales

AGENCY: Bureau of Ocean Energy Management (BOEM), Interior.

ACTION: List of Restricted Joint Bidders.

SUMMARY: Pursuant to the authority vested in the Director of the Bureau of Ocean Energy Management by the joint bidding provisions of 30 CFR 556.41, each entity within one of the following groups shall be restricted from bidding with any entity in any of the other following groups at Outer Continental Shelf oil and gas lease sales to be held during the bidding period November 1, 2013, through April 30, 2014. This List of Restricted Joint Bidders will cover the period November 1, 2013, through April 30, 2014, and replace the prior list published on May 10, 2013, which covered the period of May 1, 2013, through October 31, 2013.

Group I

BP America Production Company

BP Exploration & Production Inc.

BP Exploration (Alaska) Inc.

Group II

Chevron Corporation

Chevron U.S.A. Inc.

Chevron Midcontinent, L.P.

Unocal Corporation

Union Oil Company of California

Pure Partners, L.P.

Group III

Eni Petroleum Co. Inc.

Eni Petroleum US LLC

Eni Oil US LLC

Eni Marketing Inc.

Eni BB Petroleum Inc.

Eni US Operating Co. Inc.

Eni BB Pipeline LLC

Group IV

Exxon Mobil Corporation

ExxonMobil Exploration Company

Group V

Nexen Petroleum Offshore U.S.A. Inc.

Group VI

Petroleo Brasileiro S.A.

Petrobras America Inc.

Group VII

Shell Oil Company

Shell Offshore Inc.

SWEPI LP

Shell Frontier Oil & Gas Inc.

SOI Finance Inc.

Shell Gulf of Mexico Inc.

Group VIII

Statoil ASA

Statoil Gulf of Mexico LLC

Statoil USA E&P Inc.

Statoil Gulf Properties Inc.

Group IX

Total E&P USA, Inc.

Dated: October 22, 2013.
Tommy P. Beaudreau,
Director, Bureau of Ocean Energy Management.

[FR Doc. 2013-25323 Filed 10-25-13; 8:45 am]

BILLING CODE 4310-MR-P